DEPARTMENT OF COMMERCE

Foreign-Trade Zones Board

[B-94-2013]

Foreign-Trade Zone 99—Wilmington, Delaware, Authorization of Production Activity, Noramco, Inc., (Pharmaceuticals), Wilmington, Delaware

On November 4, 2013, the Delaware Economic Development Office, grantee of FTZ 99, submitted a notification of proposed production activity to the Foreign-Trade Zones (FTZ) Board on behalf of Noramco, Inc., within Subzone 99F, in Wilmington, Delaware.

The notification was processed in accordance with the regulations of the FTZ Board (15 CFR part 400), including notice in the Federal Register inviting public comment (78 FR 68026-68027, 11-13-2013). The FTZ Board has determined that no further review of the activity is warranted at this time. The production activity described in the notification is authorized, subject to the FTZ Act and the Board's regulations, including Section 400.14.

Dated: March 4, 2014.
Andrew McGilvray,
Executive Secretary.

[FR Doc. 2014-05139 Filed 3-7-14; 8:45 am]

BILLING CODE 3510-DS-P